DEPARTMENT OF HOMELAND SECURITY

Federal Emergency Management Agency

[Docket ID FEMA-2014-0002; Internal Agency Docket No. FEMA-B-1428]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Autauga | City of Prattville (14-04-4875P) | The Honorable Bill Gillespie, Jr., Mayor, City of Prattville, 101 West Main Street, Prattville, AL 36067 | Planning and Development Department, City Hall Annex, 102 West Main Street, Prattville, AL 36067 | http://www.msc.fema.gov/lomc | September 22, 2014 | 010002
Autauga | City of Prattville (14-04-4876P) | The Honorable Bill Gillespie, Jr., Mayor, City of Prattville, 101 West Main Street, Prattville, AL 36067 | Planning and Development Department, City Hall Annex, 102 West Main Street, Prattville, AL 36067 | http://www.msc.fema.gov/lomc | September 22, 2014 | 010002
Autauga | Unincorporated areas of Autauga County (14-04-4875P) | The Honorable Carl Johnson, Chairman, Autauga County Board of Commissioners, 135 North Court Street, Suite B, Prattville, AL 36067 | Autauga County Emergency Management Agency, 826 Gillespie Street, Prattville, AL 36067 | http://www.msc.fema.gov/lomc | September 22, 2014 | 010314
Autauga | Unincorporated areas of Autauga County (14-04-4876P) | The Honorable Carl Johnson, Chairman, Autauga County Board of Commissioners, 135 North Court Street, Suite B, Prattville, AL 36067 | Autauga County Emergency Management Agency, 826 Gillespie Street, Prattville, AL 36067 | http://www.msc.fema.gov/lomc | September 22, 2014 | 010314
Arizona:
Maricopa | Town of Buckeye (14-09-0978P) | The Honorable Jackie A. Meck, Mayor, Town of Buckeye, 530 East Monroe Avenue, Buckeye, AZ 85326 | Town Hall, 100 North Apache Street, Suite A, Buckeye, AZ 85326 | http://www.msc.fema.gov/lomc | September 12, 2014 | 040039
Pima | City of Tucson (13-09-3317P) | The Honorable Jonathan Rothschild, Mayor, City of Tucson, 255 West Alameda, 10th Floor, Tucson, AZ 85701 | Planning and Development Services Department, 201 North Stone, 1st Floor, Tucson, AZ 85701 | http://www.msc.fema.gov/lomc | September 29, 2014 | 040076
Pima | Town of Marana (14-09-1828P) | The Honorable Ed Honea, Mayor, Town of Marana, 11555 West Civic Center Drive, Marana, AZ 85653 | Engineering Department, 11555 West Civic Center Drive, Marana, AZ 85653 | http://www.msc.fema.gov/lomc | September 29, 2014 | 040118
Pima | Unincorporated areas of Pima County (14-09-1828P) | The Honorable Sharon Bronson, Chair, Pima County Board of Supervisors, 130 West Congress Street, 11th Floor, Tucson, AZ 85701 | Pima County Flood Control District, 97 East Congress Street, 3rd Floor, Tucson, AZ 85701 | http://www.msc.fema.gov/lomc | September 29, 2014 | 040073
Pima | Unincorporated areas of Pima County (14-09-1215P) | The Honorable Sharon Bronson, Chair, Pima County Board of Supervisors, 130 West Congress Street, 11th Floor, Tucson, AZ 85701 | Pima County Flood Control District, 97 East Congress Street, 3rd Floor, Tucson, AZ 85701 | http://www.msc.fema.gov/lomc | September 3, 2014 | 040073
Pinal | Unincorporated areas of Pinal County (13-09-1389P) | The Honorable Anthony Smith, Chairman, Pinal County Board of Supervisors, P.O. Box 827, Florence, AZ 85132 | Pinal County Engineering Department, 31 North Pinal Street, Building F, Florence, AZ 85232 | http://www.msc.fema.gov/lomc | September 12, 2014 | 040077
California:
Alameda | City of Fremont, (13-09-2956P) | The Honorable Bill Harrison, Mayor, City of Fremont, 3300 Capitol Avenue, Fremont, CA 94538 | Development Services Center, 39550 Liberty Street, Fremont, CA 94538 | http://www.msc.fema.gov/lomc | October 13, 2014 | 065028
Kern | City of Delano, (14-09-2143P) | The Honorable Grace Vallejo, Mayor, City of Delano, P.O. Box 3010, Delano, CA 93216 | Community Development Department, 1015 11th Avenue, Delano, CA 93216 | http://www.msc.fema.gov/lomc | September 26, 2014 | 060078
Colorado: El Paso | Unincorporated areas of El Paso County (14-08-0489P) | The Honorable Dennis Hisey, Chairman, El Paso County Board of Commissioners, 200 South Cascade Avenue, Suite 100, Colorado Springs, CO 80903 | El Paso County Floodplain Administrator, 2880 International Circle, Colorado Springs, CO 80910 | http://www.msc.fema.gov/lomc | October 14, 2014 | 080059
Florida:
Marion | Unincorporated areas of Marion County (14-04-2852P) | The Honorable Carl Zalak, III, Chairman, Marion County Board of Commissioners, 601 Southeast 25th Avenue, Ocala, FL 34471 | Transportation Department, 412 Southeast 25th Avenue, Ocala, FL 34471 | http://www.msc.fema.gov/lomc | October 13, 2014 | 120160
Monroe | City of Marathon (14-04-4871P) | The Honorable Dick Ramsay, Mayor, City of Marathon, 9805 Overseas Highway, Marathon, FL 33050 | Planning Department, 9805 Overseas Highway, Marathon, FL 33050 | http://www.msc.fema.gov/lomc | September 12, 2014 | 120681
Seminole | Unincorporated areas of Seminole County (14-04-0226P) | The Honorable Bob Dallari, Chairman, Seminole County Board of Commissioners, 1101 East 1st Street, Sanford, FL 32771 | Building Division, 1101 East 1st Street, Sanford, FL 32771 | http://www.msc.fema.gov/lomc | September 12, 2014 | 120289
Walton | City of Freeport (14-04-1147P) | The Honorable Russ Barley, Mayor, City of Freeport, P.O. Box 339, Freeport, FL 32439 | City Hall, 112 Highway 20 West, Freeport, FL 32439 | http://www.msc.fema.gov/lomc | October 10, 2014 | 120319
Hawaii: Hawaii | Hawaii County (13-09-2726P) | The Honorable William P. Kenoi, Mayor, Hawaii County, 25 Aupuni Steet, Hilo, HI 96720 | Hawaii County Department of Public Works, 101 Pauahi Street, Suite 7, Hilo, HI 96720 | http://www.msc.fema.gov/lomc | September 22, 2014 | 155166
Kentucky: Jefferson | Louisville-Jefferson County Metro Government (14-04-0120P) | The Honorable Greg Fischer, Mayor, Louisville-Jefferson County Metro Government, 527 West Jefferson Street, Louisville, KY 40202 | Metropolitan Sewer District, 700 West Liberty Street, Louisville, KY 40203 | http://www.msc.fema.gov/lomc | September 29, 2014 | 210120
Mississippi:
Oktibbeha | City of Starkville (12-04-7758P) | The Honorable Parker Wiseman, Mayor, City of Starkville, 101 East Lampkin Street, Starkville, MS 39759 | City Hall, 101 East Lampkin Street, Starkville, MS 39759 | http://www.msc.fema.gov/lomc | October 6, 2014 | 280124
Oktibbeha | Unincorporated areas of Oktibbeha County (12-04-7758P) | The Honorable Orlando Trainer, President, Oktibbeha County Board of Supervisors, 101 East Lampkin Street, Starkville, MS 39759 | Oktibbeha County Courthouse, 101 East Lampkin Street, Starkville, MS 39759 | http://www.msc.fema.gov/lomc | October 6, 2014 | 280277
Nevada:
Clark | Unincorporated areas of Clark County (14-09-0768P) | The Honorable Steve Sisolak, Chairman, Clark County Board of Commissioners, 500 South Grand Central Parkway, Las Vegas, NV 89155 | Clark County Public Works Department, 500 South Grand Central Parkway, Las Vegas, NV 89155 | http://www.msc.fema.gov/lomc | September 10, 2014 | 320003
Washoe | City of Reno (14-09-0059P) | The Honorable Robert Cashell, Mayor, City of Reno, P.O. Box 1900, Reno, NV 89505 | City Hall, 450 Sinclair Street, Reno, NV 89501 | http://www.msc.fema.gov/lomc | August 21, 2014 | 320020
New York:
Orange | Town of New Windsor (13-02-1014P) | The Honorable George A. Green, Supervisor, Town of New Windsor, 555 Union Avenue, New Windsor, NY 12553 | Town Hall, 555 Union Avenue, New Windsor, NY 12553 | http://www.msc.fema.gov/lomc | November 5, 2014 | 360628
Rockland | Town of Clarkstown (13-02-1013P) | The Honorable Alexander J. Gromack, Supervisor, Town of Clarkstown, 10 Maple Avenue, New City, NY 10956 | Town Hall, 10 Maple Avenue, New City, NY 10956 | http://www.msc.fema.gov/lomc | November 19, 2014 | 360679
North Dakota:
Stark | City of Dickinson (14-08-0354P) | The Honorable Dennis W. Johnson, Mayor, City of Dickinson, 99 2nd Street East, Dickinson, ND 58601 | Building Department, 99 2nd Street East, Dickinson, ND 58601 | http://www.msc.fema.gov/lomc | September 5, 2014 | 380117
Stark | Unincorporated areas of Stark County (14-08-0354P) | The Honorable Russ Hoff, Chairman, Stark County Board of Commissioners, P.O. Box 130, Dickinson, ND 58602 | Stark County Recorder, 51 3rd Street East, Dickinson, ND 58602 | http://www.msc.fema.gov/lomc | September 5, 2014 | 385369
South Carolina:
Jasper | Town of Hardeeville (14-04-1941P) | The Honorable Bronco Bostick, Mayor, Town of Hardeeville, 205 East Main Street, Hardeeville, SC 29927 | City Hall, 205 Main Street, Hardeeville, SC 29927 | http://www.msc.fema.gov/lomc | September 18, 2014 | 450113
Jasper | Unincorporated areas of Jasper County (14-04-1941P) | The Honorable Barbara Clark, Chair, Jasper County Council, P.O. Box 1149, Ridgeland, SC 29936 | Jasper County Planning Department, 358 3rd Avenue, Ridgeland, SC 29936 | http://www.msc.fema.gov/lomc | September 18, 2014 | 450112
Richland | Unincorporated areas of Richland County (13-04-8158P) | The Honorable Norman Jackson, Chairman, Richland County Council, P.O. Box 90617, Columbia, SC 29209 | Richland County Courthouse, 1701 Main Street, Columbia, SC 29202 | http://www.msc.fema.gov/lomc | September 15, 2014 | 450170
Utah:
Salt Lake | City of West Jordan (13-08-1221P) | The Honorable Kim V. Rolfe, Mayor, City of West Jordan, 8000 South Redwood Road, West Jordan, UT 84088 | City Hall, 8000 South Redwood Road, West Jordan, UT 84088 | http://www.msc.fema.gov/lomc | September 11, 2014 | 490108
Weber | City of Ogden (13-08-0663P) | The Honorable Mike Caldwell, Mayor, City of Ogden, 2549 Washington Boulevard, Ogden, UT 84401 | City Hall, 2549 Washington Boulevard, Ogden, UT 84401 | http://www.msc.fema.gov/lomc | September 22, 2014 | 490189

(Catalog of Federal Domestic Assistance No. 97.022, “Flood Insurance.”)

Dated: July 11, 2014.
Roy E. Wright,
Deputy Associate Administrator for Mitigation, Department of Homeland Security, Federal Emergency Management Agency.

[FR Doc. 2014-18105 Filed 7-31-14; 8:45 am]

BILLING CODE 9110-12-P